DEPARTMENT OF THE TREASURY

Submission for OMB Review; Comment Request

April 5, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 11, 2006 to be assured of consideration.

Internal Revenue Service (IRS)

OMB Number: 1545-1227.

Type of Review: Extension.

Title: FI-104-90 Final Tax Treatment of Salvage and Reinsurance.

Description: The regulation provides a disclosure requirement for an insurance company that increases losses shown on its annual statement by the amount of estimated salvage recoverable taken into account.

Respondents: Business or other for-profit.

Estimated Total Burden Hours: 5,000 hours.

OMB Number: 1545-1412.

Type of Review: Extension.

Title: FI-54-93 (Final) Clear Reflection of Income in the Case of Hedging Transactions.

Description: This information is required by the Internal Revenue Service to verify compliance with section 446 of the Internal Revenue Code. This information will be used to determine that the amount of tax has been computed correctly.

Respondents: Business or other for-profit.

Estimated Total Burden Hours: 22,000 hours.

OMB Number: 1545-1503.

Type of Review: Extension.

Title: Revenue Procedure 96-53, Section 482—Allocations Between Related Parties.

Description: The information requested in sections 4.02, 8.02, 9, 11.01, 11.02(1), 11.04, 11.07 and 11.08 is required to enable the Internal Revenue Service to give advice on filling Advance Pricing Agreement applications, to process such applications and negotiate agreements, and to verify compliance with agreements and whether agreements require modification.

Respondents: Business or other for-profit.

Estimated Total Burden Hours: 8,200 hours.

OMB Number: 1545-1531.

Type of Review: Extension.

Title: Notice 97-19 and Notice 98-34 Guidance for Expatriates Under Sections 877, 2501, 2107, and 6039F.

Description: Notice 97-19 and Notice 98-34 provide guidance for individuals affected by amendments to Code sections 877, 2107, and 2501, as amended by the Health Insurance Portability and Accountability Act. These notices also provide guidance on Code section 6039F.

Respondents: Individuals or households.

Estimated Total Burden Hours: 6,525 hours.

OMB Number: 1545-1676.

Type of Review: Extension.

Title: REG-113572-99 (Final) Qualified Transportation Fringe Benefits.

Description: These regulations provide guidance to employers that provide qualified transportation fringe benefits under section 132(f), including guidance to employers that provide cash reimbursement for qualified transportation fringes and employers that offer qualified transportation fringes in lieu of compensation. Employers that provide cash reimbursement are required to keep records of documentation received from employees who receive reimbursement. Employers that offer qualified transportation fringes in lieu of compensation are required to keep records of employee compensation reduction elections.

Respondents: Individuals or households; Business or other for-profit; Not-for-profit institutions; Federal Government; State, local or tribal government.

Estimated Total Burden Hours: 12,968,728 hours.

OMB Number: 1545-1804.

Type of Review: Extension.

Title: New Markets Credit.

Form: IRS-Form 8874.

Description: Investors use Form 8874 to request a credit for equity investments in Community development entities.

Respondents: Individuals or households, Business or other for-profit.

Estimated Total Burden Hours: 58,395 hours.

OMB Number: 1545-1822.

Type of Review: Extension.

Title: Revenue Procedure 2003-11, Offshore Voluntary Compliance Initiative.

Description: Revenue Procedure 2003-11 describes the Offshore Voluntary Compliance Initiative, which is directed at taxpayers that have under-reported their tax liability through financial arrangements outside the United States that rely on the use of credit, debit, or charge cards (offshore credit cards) or foreign banks, financial institutions, corporations, partnerships, trusts, or other entities (offshore financial arrangements). Taxpayers that participate in the initiative and provide the information and material that their participation requires can avoid certain penalties.

Respondents: Individuals or households; Business or other for-profit; Not-for-profit institutions.

Estimated Total Burden Hours: 100,000 hours.

Clearance Officer: Glenn P. Kirkland, Internal Revenue Service, Room 6516, 1111 Constitution Avenue, NW., Washington, DC 20224, (202) 622-3428.

OMB Reviewer: Alexander T. Hunt, Office of Management and Budget, Room 10235, New Executive Office Building, Washington, DC 20503, (202) 395-7316.

Michael A. Robinson,
Treasury PRA Clearance Officer.

[FR Doc. E6-5228 Filed 4-10-06; 8:45 am]

BILLING CODE 4830-01-P